DEPARTMENT OF THE INTERIOR

National Park Service

[2310-0070-422]

Winter Use Plan, Supplemental Draft Environmental Impact Statement, Yellowstone National Park

AGENCY: National Park Service, Interior.

ACTION: Notice of Availability of the Draft Supplemental Environmental Impact Statement for the Winter Use Plan, Yellowstone National Park.

SUMMARY: Pursuant to the National Environmental Policy Act of 1969, 42 U.S.C. 4332(2)(C), the National Park Service (NPS) announces the availability of a Draft Supplemental Environmental Impact Statement (Draft SEIS) for a Winter Use Plan for Yellowstone National Park, located in Idaho, Montana and Wyoming.

DATES: The National Park Service will accept comments from the public for 45 days from the date the Environmental Protection Agency publishes its Notice of Availability. The NPS intends to hold public meetings in Jackson, WY on July 16, 2012; West Yellowstone, MT on July 17, 2012; Bozeman, MT on July 18, 2012; and Cody, WY on July 19, 2012. Additional details regarding the public meeting locations and times can be found at http://parkplanning.nps.gov/YELL (click on the link to the 2012 Supplemental Winter Use Plan EIS, and then on the Meeting Notices link).

More information regarding Yellowstone in the winter, including educational materials and a detailed history of winter use in Yellowstone, is available at http://www.nps.gov/yell/planvisit/winteruse/index.htm.

ADDRESSES: Information will be available for public review and comment online at http://parkplanning.nps.gov/YELL (click on the link to the 2012 Supplemental Winter Use Plan EIS), and at Yellowstone National Park headquarters, Mammoth Hot Springs, WY.

FOR FURTHER INFORMATION CONTACT: Wade Vagias, P.O. Box 168, Yellowstone National Park, WY 82190, (307) 344-2035.

SUPPLEMENTARY INFORMATION: Four alternatives are considered in the Draft SEIS. Alternative 1, the no-action alternative, would not permit public over-snow vehicle (OSV) use in Yellowstone but would allow for approved non-motorized use to continue. Alternative 1 has been identified as the environmentally preferable alternative. Alternative 2 would manage OSV use at the same levels as the 2011/2012 interim rule (318 best available technology (BAT) snowmobiles and 78 snowcoaches per day). Sylvan Pass would remain open. Alternative 3 would initially allow for the same level of use as alternative 2 (318 BAT snowmobiles and 78 snowcoaches per day), but would transition to snowcoaches only over a three year period beginning in the 2017/2018 winter season. Upon complete transition, there would be 0 snowmobiles and up to 120 snowcoaches per day in the park, and Sylvan Pass would be closed.

Alternative 4 is the NPS preferred alternative. This alternative would manage OSV use by transportation events. A total of 110 transportation events would be allowed in the park each day. A transportation event would initially equal one snowcoach or one group of snowmobiles (average of 7 snowmobiles per group, averaged over the winter use season; groups could not exceed a maximum of 10 snowmobiles). Operators would decide whether to use their daily allocation of transportation events for snowmobiles or snowcoaches, but no more than 50 daily transportation events could come from snowmobiles. OSV use would continue to be 100 percent guided, with four transportation events per day (one per gate) of up to 5 snowmobiles each allocated for non-commercially guided access. BAT requirements for snowmobiles would remain the same as the BAT requirements in the 2011/2012 interim regulation until the 2017/2018 winter season, at which time additional sound and air emission requirements would be implemented. BAT requirements for snowcoaches would also be implemented beginning in the 2017/2018 season. If OSVs meet additional established standards for air and sound emissions beyond those required for BAT, the group size of snowmobiles would be allowed to increase from an average of 7 to an average of 8 per transportation event, and snowcoaches would be allowed to increase from one to two snowcoaches per transportation event. These changes would allow for an increase in visitation while reducing transportation-generated noise and air impacts. Sylvan Pass would remain open.

If you wish to comment on the Draft Supplemental Environmental Impact Statement, you may submit your comments by any one of several methods. We encourage you to comment via the Internet at http://parkplanning.nps.gov/YELL (click on the link to the 2012 Supplemental Winter Use Plan EIS). You may also comment by mail to: Yellowstone National Park, Winter Use Draft SEIS, P.O. Box 168, Yellowstone NP, WY 82190. Finally, you may hand deliver your comments to: Management Assistant's Office, Headquarters Building, Mammoth Hot Springs, Yellowstone National Park, WY. Comments will not be accepted by fax, email, or in any other way than those specified above. Bulk comments in any format (hard copy or electronic) submitted on behalf of others will not be accepted.

Before including your address, phone number, email address, or other personal identifying information in your comment, you should be aware that your entire comment—including your personal identifying information—may be made publicly available at any time. While you can ask us in your comment to withhold your personal identifying information from public review, we cannot guarantee that we will be able to do so.

Dated: June 21, 2012.
Colin Campbell,
Deputy Regional Director, Intermountain Region, National Park Service.

[FR Doc. 2012-15678 Filed 6-28-12; 8:45 am]

BILLING CODE 4312-CT-P